DEPARTMENT OF ENERGY

Federal Energy Regulatory Commission

[FFP Project 101, LLC; Project No. 14861-002]

Notice of Application Tendered for Filing With the Commission and Soliciting Additional Study Requests

Take notice that the following hydroelectric application has been filed with the Commission and is available for public inspection.

a. Type of Filing: Original major license.

b. Project No.: 14861-002.

c. Date Filed: June 23, 2020.

d. Submitted By: Rye Development on behalf of FFP Project 101, LLC (FFP).

e. Name of Project: Goldendale Pumped Storage Project.

f. Location: Off-stream (north side) of the Columbia River at River Mile 215.6 in Klickitat County, Washington and Sherman County, Oregon, approximately 8 miles southeast of the City of Goldendale. The project would occupy 18.1 acres of lands owned by the U.S. Army Corps of Engineers.

g. Filed Pursuant to: Federal Power Act 16 U.S.C. 791 (a)-825(r).

h. Applicant Contact: Erik Steimle, Rye Development, 220 Northwest 8th Avenue Portland, Oregon 97209; (503) 998-0230; email—erik@ryedevelopment.com.

i. FERC Contact: Michael Tust at (202) 502-6522; or email at michael.tust@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 22, 2020.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY).

m. The application is not ready for environmental analysis at this time.

n. The proposed project would consist of the following new facilities: (1) A 61-acre upper reservoir formed by a 175-foot high, 8,000 foot-long rockfill embankment dam at an elevation of 2,950 feet mean sea level (MSL) with a vertical concrete intake-outlet structure; (2) a 63-acre lower reservoir formed by a 205-foot high, 6,100-foot long embankment at an elevation of 590 feet MSL with a horizontal concrete intake-outlet structure and vertical steel slide gates; (3) an underground conveyance tunnel system connecting the two reservoirs consisting of a 2,200-foot-long, 29-foot diameter concrete-lined vertical shaft, a 3,300-foot-long, 29-foot diameter concrete-lined high pressure tunnel, a 200-foot-long, 22-foot diameter high pressure manifold tunnel, three 600-foot-long, 15-foot diameter steel/concrete penstocks, a 200-foot-long, 20-foot diameter steel-lined draft tube tunnel, a 200-foot-long, 26-foot diameter concrete-lined low pressure tunnel, and a 3,200-foot-long, 30-foot diameter concrete-lined tailrace tunnel; (4) an underground powerhouse located between the upper and lower reservoir in a 0.83-acre powerhouse cavern containing three, 400-megawatt (MW) Francis-type pump-turbine units for a total installed capacity of 1,200 MW; (5) a 0.48-acre underground transformer cavern adjacent to the powerhouse containing intermediate step-up transformers that will step up the voltage to 115 kilovolts; (6) two 30-foot diameter tunnels for accessing the powerhouse and transformer caverns; (7) an approximate 1.0-mile-long, 115-kilovolt transmission line routed from the transformer gallery through the combined access/transmission tunnel to a new outdoor 7.3-acre substation/switchyard that will step up the voltage to 500 kilovolts; (8) a 4-mile-long, 500-kilovolt transmission line routed from the substation/switchyard south over the Columbia River and connecting to Bonneville Power Administration's existing John Day Substation; (9) a buried 2.5-foot diameter water fill line leading from a shut-off and throttling valve within a non-project water supply vault owned by Klickitat Public Utility District (KPUD) to an outlet structure within the lower reservoir to convey water for reservoir filling; and (10) appurtenant facilities. The project would also include an existing 0.7-mile road for accessing the lower reservoir site and an existing 8.6-mile road for accessing the upper reservoir site both of which may be modified to provide for construction vehicle access.

The water supply used to initially fill the lower reservoir as well as to provide make-up water would be purchased from KPUD and would be sourced from KPUD's existing intake pond on the Columbia River. The new project water fill line would connect to a new KPUD-owned flanged water supply service connection in a water supply vault located near the lower reservoir. Within the vault, and just downstream of the service connection, there would be a project shut-off and throttling valve to allow control of the initial fill and make-up water flow rate into the lower reservoir. The initial volume of water necessary to fill the lower reservoir is estimated to be 7,640 acre-feet and would be filled over about six months at an average flow rate of approximately 21 cubic feet per second (maximum flow rate available is 35 cubic feet per second). It is estimated that the project would need 260 acre-feet of water each year to replenish water lost through evaporation. The estimated annual generation for operating 8 hours a day, 7 days a week is 3,500 gigawatt-hours per year.

o. In addition to publishing the full text of this document in the Federal Register, the Commission provides all interested persons an opportunity to view and/or print the contents via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (866) 208-3676 or TYY, (202) 502-8659.

You may also register online at http://www.ferc.gov/docs-filing/esubscription.asp to be notified via email of new filings and issuances related to this or other pending projects. For assistance, contact FERC Online Support.

p. Procedural Schedule: The application will be processed according to the following preliminary Hydro Licensing Schedule. In its application, FFP requested expedited processing pursuant to section 35 of the Federal Power Act for qualifying closed-loop pumped storage projects. The Commission has not yet acted on this request; however, the preliminary schedule below reflects an expedited licensing process in accordance with 18 CFR part 7 of the Commission's Regulations which will be followed while the Commission conducts its review of the application. The Commission will act on FFP's request to use the expedited licensing process no later than 180 days after receipt of the request in accordance with 18 CFR part 7.5. If the request is denied, the application will be processed pursuant to a standard processing schedule under 18 CFR part 4. Revisions to the schedule will be made as appropriate.

Issue deficiency/additional information letter—July 2020

Issue Scoping Document 1 for comments—September 2020

Comments on Scoping Document 1—November 2020

Issue Scoping Document 2 (if necessary)—December 2020

Issue notice of acceptance, ready for environmental analysis, approving request for expedited processing—December 2020

Commission issues draft EA or draft EIS—August 2021

Comments on draft EA or draft EIS—September 2021

Commission issues final EA or final EIS—January 2022

Dated: July 6, 2020.
Nathaniel J. Davis, Sr.,
Deputy Secretary.

[FR Doc. 2020-14906 Filed 7-9-20; 8:45 am]

BILLING CODE 6717-01-P